DEPARTMENT OF COMMERCE

International Trade Administration

[A-560-807]

Notice of Final Determination of Sales at Less Than Fair Value: Certain Cold-Rolled Flat-Rolled Carbon-Quality Steel Products From Indonesia

AGENCY: Import Administration, International Trade Administration, Department of Commerce.

ACTION: Notice of final determination of sales at less than fair value.

EFFECTIVE DATE: May 31, 2000.

FOR FURTHER INFORMATION CONTACT: Arland DiGirolamo or Abdelali Elouaradia at (202) 482-1278 or (202) 482-0498, respectively; Import Administration, Room 1870, International Trade Administration, U.S. Department of Commerce, 14th Street and Constitution Avenue, NW, Washington, DC 20230.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (the Department) regulations are to 19 CFR Part 351 (1998).

Final Determination

We determine that cold-rolled flat-rolled carbon-quality steel products (cold-rolled steel products) from Indonesia are being sold, or are likely to be sold, in the United States at less than fair value (LTFV), as provided in section 735 of the Act. The estimated margins of sales at LTFV are shown in the “Suspension of Liquidation” section of this notice.

Case History

The preliminary determination in this investigation was issued on December 28, 1999. See Notice of Preliminary Determination of Sales at Less than Fair Value and Postponement of Final Determination: Certain Cold-Rolled Flat-Rolled Carbon-Quality Steel Products from Indonesia, 65 FR 1103 (January 7, 2000) (Preliminary Determination). The investigation covers one manufacturer/exporter, PT Krakatau Steel (Krakatau). The period of the investigation (POI) is April 1, 1998 through March 31, 1999.

From January 10 through January 14, 2000, the Department conducted a sales verification of Krakatau's sales data. The Department found that Krakatau had failed to report a large percentage of its U.S. sales of subject merchandise. Based on these findings, the Department canceled its cost verification of Krakatau, and issued a memorandum recommending the issuance of a final determination based on total facts available. See Memorandum from The Team to Holly Kuga, dated February 28, 2000 (AFA Memo). On March 7, 2000, the petitioners ¹ submitted a case brief arguing that the Department, in selecting a facts available rate, should apply the highest calculated dumping margin for any non-aberrational U.S. sale. Krakatau did not file a case brief. No rebuttal briefs were filed, and the petitioners withdrew their request for a hearing.

¹ Petitioners in this case are Bethlehem Steel Corporation, Gulf States Steel, Inc., Ispat Inland Inc., LTV Steel Company Inc., National Steel Company, Steel Dynamics, Inc., U.S. Steel Group, a unit of USX Corporation, Weirton Steel Corporation, United Steelworkers of America, and Independent Steelworkers Union (collectively, petitioners).

Scope of Investigation

For purposes of this investigation, the products covered are certain cold-rolled (cold-reduced) flat-rolled carbon-quality steel products, neither clad, plated, nor coated with metal, but whether or not annealed, painted, varnished, or coated with plastics or other non-metallic substances, both in coils, 0.5 inch wide or wider (whether or not in successively superimposed layers and/or otherwise coiled, such as spirally oscillated coils), and also in straight lengths, which, if less than 4.75 mm in thickness having a width that is 0.5 inch or greater and that measures at least 10 times the thickness; or, if of a thickness of 4.75 mm or more, having a width exceeding 150 mm and measuring at least twice the thickness. The products described above may be rectangular, square, circular or other shape and include products of either rectangular or non-rectangular cross-section where such cross-section is achieved subsequent to the rolling process (i.e., products which have been “worked after rolling”)—for example, products which have been beveled or rounded at the edges.

The above is simply a summary of the products covered by the investigation. For the dispositive description of the scope of this investigation, see the “Scope of Investigation” section of the Decision Memorandum, which is on file in Room B-099 of the Department's Main Building and available on the World Wide Web at www.ita.doc.gov/import_admin/ records/frn.

Analysis of Comments Received

All issues raised in the brief by the petitioners in this case are addressed in the “Issues and Decision Memorandum” (Decision Memorandum) from Holly Kuga, Acting Deputy Assistant Secretary, Import Administration, to Troy H. Cribb, Acting Assistant Secretary for Import Administration, dated May 22, 2000, which is hereby adopted by this notice. A list of the issues which parties have raised and to which we have responded, all of which are in the Decision Memorandum, is attached to this notice as an Appendix. Parties can find a complete discussion of all issues raised in this investigation and the corresponding recommendations in this public memorandum, which is on file in B-099.

In addition, a complete version of the Decision Memorandum can be accessed directly on the World Wide Web at www.ita.doc.gov/import_admin/records/frn. The paper copy and electronic version of the Decision Memorandum are identical in content.

Changes Since the Preliminary Determination

Given the magnitude of the unreported U.S. sales of subject merchandise, we have determined to base the final determination in this case on adverse facts available. See AFA Memo. As adverse facts available, we have relied upon the highest POI-wide, product-specific margin calculated in the preliminary determination (83.79 percent). See Decision Memorandum, accessible in B-099 and on the World Wide Web at www.ita.doc.gov/import_admin/records/frn/.

Suspension of Liquidation

Pursuant to section 735(c)(1)(B) of the Act, we are instructing Customs to continue to suspend liquidation of all entries of cold-rolled flat-rolled carbon-quality steel products from Indonesia that are entered, or withdrawn from warehouse, for consumption on or after January 7, 2000, the date of publication of the Preliminary Determination. The Customs Service shall continue to require a cash deposit or the posting of a bond based on the estimated weighted-average dumping margins shown below. The suspension of liquidation instructions will remain in effect until further notice.

Section 735(c)(5)(B) of the Act provides that, where the estimated weighted-averaged dumping margins established for all exporters and producers individually investigated are zero or de minimis or are determined entirely under section 776 of the Act, the Department may use any reasonable method to establish the estimated all-others rate for exporters and producers not individually investigated. Our recent practice under these circumstances has been to assign, as the “all others” rate, the simple average of the margins in the petition. See Notice of Final Determinations of Sales at Less Than Fair Value: Certain Cold-Rolled Flat-Rolled Carbon-Quality Steel Products From Argentina, Japan and Thailand, 65 FR 5520 (February 4, 2000); see also Notice of Final Determination of Sales at Less Than Fair Value: Notice of Final Determination of Sales at Less Than Fair Value: Stainless Steel Plate in Coil from Canada (“Stainless Steel Plate from Canada”), 64 FR 15457 (March 31, 1999); and Notice of Final Determination of Sales at Less Than Fair Value: Stainless Steel Plate in Coil from Italy (“Stainless Steel Plate from Italy”), 64 FR 15458, 15459 (March 21, 1999).

In this case, we have calculated the dumping margins for the sole Indonesian respondent based entirely on adverse facts available. Consistent with our practice, we have assigned to all other manufacturers/exporters the simple average of the margins in the petition, which is 43.90 percent.²

² We note that this was the only margin provided in the petition.

We determine that the following weighted-average dumping margins exist for April 1, 1998, through March 31, 1999:

Manufacturer/exporter | Weighted-average margin (percent)
PT Krakatau Steel | 83.79
All Others | 43.90

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping duty order directing Customs officials to assess antidumping duties on all imports of the subject merchandise entered, or withdrawn from warehouse for consumption on or after the effective date of the suspension of liquidation.

This determination is issued and published in accordance with sections 735(d) and 777(i)(1) of the Act.

Dated: May 22, 2000.
Troy H. Cribb,
Acting Assistant Secretary for Import Administration.

Appendix I—Issues in Decision Memo

Comments and Responses

Facts Available.

[FR Doc. 00-13578 Filed 5-30-00; 8:45 am]

BILLING CODE 3510-DS-P